DEPARTMENT OF THE INTERIOR

Bureau of Land Management

[MT-919-1990-NU-021E]

Notice of Supplementary Rules for Public Land in South Dakota

AGENCY: Bureau of Land Management, Interior.

ACTION: Direct final supplementary rules.

SUMMARY: The Bureau of Land Management (BLM) South Dakota Field Office is publishing supplementary rules for public lands in the Fort Meade Recreation Area in the state of South Dakota. The rules are needed in order to protect the area's natural resources and provide for public health and safety. The rules are based on existing regulations and address use, camping and occupancy, vehicles and off-road vehicles, conduct, firearms and permits. The supplementary rules promote consistency between BLM and other natural resource agencies including the South Dakota Game, Fish & Parks Department.

DATES: These supplementary rules are effective October 10, 2006 without further action, unless adverse comment is received by September 11, 2006. If adverse comment is received, BLM will publish a timely withdrawal of the supplementary rules in the Federal Register.

ADDRESSES: Comments may be mailed or hand-delivered to the Office of Law Enforcement, BLM, Montana/Dakotas State Office, P.O. Box 36800, Billings, MT 59107-6800.

FOR FURTHER INFORMATION CONTACT: Bart Fitzgerald, Special Agent in Charge, Montana/Dakotas State Office, (406) 896-5183. Persons who use a telecommunications device for the deaf (TDD) may contact this individual by calling the Federal Information Relay Service (FIRS) at (800) 877-8339, 24 hours a day, 7 days a week.

SUPPLEMENTARY INFORMATION:

I. Procedures for Submitting Comments

II. Background

III. Procedural Matters

I. Procedures for Submitting Comments

Written comments on the direct final rule should be specific, confined to issues pertinent to the direct final rule, and should explain the reason for any recommended change. Where possible, comments should reference the specific section or paragraph of the supplementary rules that you are addressing. BLM may not necessarily consider or include in the Administrative Record for the final rule comments which BLM receives after the close of the comment period (See DATES) or comments delivered to an address other than those listed above (See ADDRESSES).

Comments, including names, streets addresses, and other contact information of respondents, will be available for public review at the Montana/Dakotas State Office, 5001 Southgate Drive, Billings, MT, from 7:45 a.m. to 4:30 p.m., Monday through Friday, except Federal holidays. Individual respondents may request confidentiality. If you wish to request that BLM consider withholding your name, street address, and other contact information (such as: Internet address, FAX or phone number) from public review or from disclosure under the Freedom of Information Act, you must state this prominently at the beginning of your comment. BLM will honor requests for confidentiality on a case-by-case basis to the extent allowed by law. BLM will make available for public inspection in their entirety all submissions from organizations or businesses, and from individuals identifying themselves as representatives or officials of organizations or businesses.

II. Background

BLM is publishing these supplementary rules in order to promote consistency between BLM (on issues of use, camping and occupancy, vehicles and off-road vehicles, conduct, firearms, boating and permits) and other land management agencies including the South Dakota Game, Fish & Parks Department. These supplementary rules will apply to the public lands within the Fort Meade Recreation Area in the state of South Dakota. These rules are necessary to protect the area's natural resources and to provide for the public's health and safety, to provide needed guidance in the areas of camping, occupancy, and recreation, and to allow for the assessment of penalties that are more commensurate with the level of the prohibited acts.

Maps of the affected areas are available at the South Dakota Field Office in Belle Fourche, SD. The areas also have signs marking the applicable boundaries.

These supplementary rules were open to public comment upon publication of the South Dakota Field Office Resource Management Plan as proposed supplementary rules. No public comments were received; therefore, the rules are now being published as direct final rules. This means that they will go into effect on October 10, 2006, without further notice, unless we receive adverse comments by September 11, 2006. In the event that we receive such comments on these direct final supplementary rules, we will withdraw the direct final supplementary rules and publish a proposed rule addressing the comments and making changes in the rules if necessary.

III. Procedural Matters

Executive Order 12866, Regulatory Planning and Review

These supplementary rules are not a significant regulatory action and are not subject to review by Office of Management and Budget under Executive Order 12866. The supplementary rules will not have an effect of $100 million or more on the economy. They will not adversely affect in a material way the economy, productivity, competition, jobs, the environment, public health or safety, or state, local, or tribal governments or communities. These supplementary rules will not create a serious inconsistency or otherwise interfere with an action taken or planned by another agency. These direct final supplementary rules do not alter the budgetary effects of entitlements, grants, user fees, or loan programs or the rights or obligations of their recipients; nor do they raise novel legal or policy issues. They merely impose rules of conduct and impose other limitations on certain recreational activities on certain public lands to protect natural resources and human health and safety.

Clarity of the Supplementary Rules

Executive Order 12866 requires each agency to write regulations that are simple and easy to understand. We invite your comments on how to make these supplementary rules easier to understand, including answers to questions such as the following: (1) Are the requirements in the supplementary rules clearly stated? (2) Do the supplementary rules contain technical language or jargon that interferes with their clarity? (3) Does the format of the supplementary rules (grouping and order of sections, use of headings, paragraphing, etc.) aid or reduce their clarity? (4) Would the supplementary rules be easier to understand if they were divided into more (but shorter) sections? (5) Is the description of the supplementary rules in the SUPPLEMENTARY INFORMATION section of this preamble helpful to your understanding of the supplementary rules? How could this description be more helpful in making the supplementary rules easier to understand?

Please send any comments you have on the clarity of the supplementary rules to the address specified in the ADDRESSES section.

National Environmental Policy Act

BLM has prepared an environmental assessment (EA) and has found that the supplementary rules are not a major Federal action significantly affecting the quality of the human environment under section 102(2)(C) of the Environmental Protection Act of 1969 (NEPA), 42 U.S.C. 4332(2)(C). A detailed statement under NEPA is not required. BLM has placed the EA and the Finding of No Significant Impact (FONSI) on file in the BLM Administrative Record at the address specified in the ADDRESSES section. BLM invites the public to review these documents and suggests that anyone wishing to submit comments in response to the EA and FONSI do so in accordance with the Written Comments section above.

Regulatory Flexibility Act

Congress enacted the Regulatory Flexibility Act of 1980 (RFA), as amended, 5 U.S.C. 601-612, to ensure that Government regulations do not unnecessarily or disproportionately burden small entities. The RFA requires a regulatory flexibility analysis if a rule would have a significant economic impact, either detrimental or beneficial, on a substantial number of small entities. These supplementary rules should have no effect on business entities of whatever size. They merely impose reasonable restrictions on certain recreational activities on certain public lands to protect natural resources and the environment, and human health and safety. Therefore, BLM has determined under the RFA that these supplementary rules will not have a significant economic impact on a substantial number of small entities.

Small Business Regulatory Enforcement Fairness Act (SBREFA)

These supplementary rules are not a “major rule” as defined at 5 U.S.C. 804(2). They will not result in an effect on the economy of $100 million or more, in an increase in costs or prices, or in significant adverse effects on competition, employment, investment, productivity, innovation, or on the ability of United States-based enterprises to compete with foreign-based enterprises in domestic and export markets. They merely impose reasonable restrictions on certain recreational activities on certain public lands to protect natural resources and the environment, and human health and safety

Unfunded Mandates Reform Act

These supplementary rules do not impose an unfunded mandate on state, local, or tribal governments or the private sector of more than $100 million per year; nor do these supplementary rules have a significant or unique effect on state, local, or tribal governments or the private sector. They merely impose reasonable restrictions on certain recreational activities on certain public lands to protect natural resources and the environment, and human health and safety. They also specifically call for compliance with state laws and regulations. Therefore, BLM is not required to prepare a statement containing the information required by the Unfunded Mandates Reform Act (2 U.S.C. 1531 et seq.)

Executive Order 12630, Governmental Actions and Interference With Constitutionally Protected Property Rights (Takings)

These supplementary rules do not represent a government action capable of interfering with Constitutionally protected property rights. Therefore, the Department of the Interior has determined that the rule will not cause a taking of private property or require preparation of a takings assessment under this Executive Order.

Executive Order 13132, Federalism

The supplementary rules will not have a substantial direct effect on the states, on the relationship between the national government and the states, or on the distribution of power and responsibilities among the various levels of government. The supplementary rules in several instances call for compliance with state law. Therefore, in accordance with Executive Order 13132, BLM has determined that these supplementary rules do not have sufficient Federalism implications to warrant preparation of a Federalism Assessment.

Executive Order 12988, Civil Justice Reform

Under Executive Order 12988, the Office of the Solicitor determined that these supplementary rules will not unduly burden the judicial system and that they meet the requirements of sections 3(a) and 3(b)(2) of the Order.

Executive Order 13175, Consultation and Coordination With Indian Tribal Governments

In accordance with Executive Order 13175, we have found that these supplementary rules do not include policies that have tribal implications. There are no Indian Reservations adjacent to the Fort Meade Recreation Area, nor are there any Indian Trust responsibilities issues such as mineral extraction or leases that affect the subject lands.

Paperwork Reduction Act

These supplementary rules do not contain information collection requirements that the Office of Management and Budget must approve under the Paperwork Reduction Act of 1995, 44 U.S.C. 3501 et seq.

Author

The principal authors of these supplementary rules are William McDonald, Law Enforcement Ranger, South Dakota Field Office, and Jason Caffey, Law Enforcement Ranger, Montana State Office, BLM.

For the reasons stated in the preamble and under the authorities for supplementary rules found under 43 CFR 8365.1-6, 43 CFR 8364.1, 43 U.S.C. 1740, 16 U.S.C. 670h(c)(5), and 43 U.S.C. 315a, the Montana/Dakotas State Director, Bureau of Land Management is issuing supplementary rules for public lands managed by the BLM in South Dakota, to read as follows:

Supplementary Rules for Fort Meade Recreation Area

The following regulations apply to public lands in the Fort Meade Recreation Area:

1. The use of tree stands must adhere to the regulations listed in South Dakota Game, Fish & Parks Department Code (section 41:03:01:19).

2. You may hunt with firearms and legally pursue game under state law within the northern portion of Fort Meade Recreation Area. However, discharge of firearms for other than hunting and the pursuit of game under state law within the northern portion of the Fort Meade Recreation Area is prohibited. The northern portion of the Fort Meade Recreation Area is defined as the northern-most quarter of the area which lies north of the ridgeline near Sly Hill. The area includes the portions of Township 6 North, Range 5 East, Sections 25, 26, 27, 34, 35 & 36, and Township 6 North, Range 5 East, Sections 2, 3, and 10 that are east of Old Highway 79. Actual boundaries are well marked with signs.

3. All firearms use is prohibited within the remaining portion of the Fort Meade Recreation Area. This includes the small area west of Old Highway 79, as well as the southern three-quarters of the Recreation Area. This includes target shooting as well as the legal pursuit of game with firearms during hunting seasons established by the state. The only exception is the use of muzzleloaders within the authorized range in the northwest quarter of Township 5 North, Range 5 East, Section 11.

4. The use or possession afield of metal detectors within the Fort Meade Recreation Area is prohibited.

5. Uncased firearms and bows are prohibited year round in established campgrounds.

6. Gasoline motors are prohibited on Fort Meade Reservoir.

7. Snowmobiles are prohibited within the Fort Meade Recreation Area.

Penalties

On all public lands, under section 303(a) of the Federal Land Policy and Management Act of 1976, 43 U.S.C. 1733(a), 43 CFR 8360.0-7 and 43 CFR 9212.4, any person who violates any of these supplementary rules, closures or restrictions on public lands within the boundaries established in the rules may be tried before a United States Magistrate and fined no more than $1,000 or imprisoned for no more than 12 months, or both. Such violations may also be subject to the enhanced fines provided for by 18 U.S.C. 3571.

On public lands within grazing districts (43 U.S.C. 315) and grazing leased lands (43 U.S.C. 315m), under the Taylor Grazing Act, 43 U.S.C. 315(a), any person who violates any of these supplementary rules on public lands within the boundaries established in the rules may be tried before a United States Magistrate and fined no more than $500.00. Such violations may also be subject to the enhanced fines provided for by 18 U.S.C. 3571.

On public lands fitting the criteria in the Sikes Act, 16 U.S.C. 670j(a)(2), any person who violates any of these supplementary rules on public lands within the boundaries established in the rules may be tried before a United States Magistrate and fined no more than $500.00 or imprisoned for no more than six months, or both. Such violations may also be subject to the enhanced fines provided for by 18 U.S.C. 3571.

On public lands designated under the National Trails System (16 U.S.C. 1241-1249) any person who violates any of these supplementary rules on public lands within the boundaries established in the rules may be tried before a United States Magistrate and fined no more than $500.00 or imprisoned for no more than six months, or both. Such violations may also be subject to the enhanced fines provided for by 18 U.S.C. 3571.

Martin C. Ott,
Montana/Dakotas State Director, Bureau of Land Management.

[FR Doc. E6-12927 Filed 8-9-06; 8:45 am]

BILLING CODE 4310-33-P